DEPARTMENT OF ENERGY

Federal Energy Regulatory Commission

Combined Notice of Filings #1

October 5, 2005.

Take notice that the Commission received the following electric rate filings:

Docket Numbers: ER00-826-004; ER00-828-004; ER98-421-015; ER98-4055-012; ER01-1337-007; ER04-288-001; ER02-177-008; ER03-1212-006; ER01-1820-007.

Applicants: Brownsville Power I, L.L.C.; Caledonia Power I, L.L.C.; CinCap IV, LLC; CinCap V, LLC; Cinergy Capital & Trading, Inc.; Cincinnati Gas & Electric Co.; Cinergy Power Investments, Inc.; St. Paul Cogeneration, LLC; Cinergy Operating Companies.

Description: Cinergy Entities submit a correction to the 7/21/05 compliance filing pursuant to Commission Order issued 7/15/05.

Filed Date: 09/28/2005.

Accession Number: 20051004-0067.

Comment Date: 5 p.m. Eastern Time on Wednesday, October 19, 2005.

Docket Numbers: ER01-205-010; ER98-2640-008; ER98-4590-006; ER99-1610-013; EL05-115-000

Applicants: Xcel Energy Services, Inc.; Northern States Power Company and Northern States Power Company (Wisconsin); Public Service Company of Colorado; Southwestern Public Service Company; and Xcel Energy Services Inc., et al.

Description: Xcel Energy Services Inc, on behalf of itself & the Xcel Energy Operating Companies, submits revisions to the market-based rate tariffs of XES, SPS, & PSCol.

Filed Date: 09/30/2005.

Accession Number: 20051005-0032.

Comment Date: 5 p.m. Eastern Time on Friday, October 21, 2005.

Docket Numbers: ER04-691-062; EL04-104-059; ER04-106-017.

Applicants: Midwest Independent Transmission System Operator, Inc.

Description: Midwest Independent Transmission System Operator, Inc submits proposed revisions to its Open Access Transmission and Energy Markets Tariff.

Filed Date: 09/29/2005.

Accession Number: 20051004-0061.

Comment Date: 5 p.m. Eastern Time on Thursday, October 20, 2005.

Docket Numbers: ER05-1259-001.

Applicants: Midwest Independent Transmission System Operator, Inc.

Description: Midwest Independent Transmission System Operator Inc submits inadvertently omitted information from the Transmittal Letter accompanying its 7/28/05 filing of an Interconnection Agreement with the City of Lebanon, OH.

Filed Date: 09/29/2005.

Accession Number: 20051005-0027.

Comment Date: 5 p.m. Eastern Time on Thursday, October 20, 2005.

Docket Numbers: ER05-1260-001.

Applicants: Midwest Independent Transmission System Operator, Inc.

Description: Midwest Independent Transmission System Operator, Inc submits information inadvertently omitted from the 7/28/05 filing of an Interconnection Agreement with Hooiser Energy Rural Electric Cooperative, Inc.

Filed Date: 09/29/2005.

Accession Number: 20051004-0062.

Comment Date: 5 p.m. Eastern Time on Thursday, October 20, 2005.

Docket Numbers: ER05-1520-000.

Applicants: California Independent System Operator Corporation.

Description: California Independent System Operator Corp submits Amendement No. 3 to the Interconnected Control Area Operating Agreement with the Sacramento Municipal Utility District.

Filed Date: 09/29/2005.

Accession Number: 20051004-0073.

Comment Date: 5 p.m. Eastern Time on Thursday, October 20, 2005.

Docket Numbers: ER05-795-000.

Applicants: ISO New England Inc.

Description: ISO New England Inc submits advance notice of an 10/1/05 effective date for the Market Rule Changes to the Re-Offer Period bidding flexibility elements of Phase I of the Ancillary Services Market project filed on 9/16/05 under Accession No. 20050929-0107.

Filed Date: 09/19/2005.

Accession Number: 20050929-0105.

Comment Date: 5 p.m. Eastern Time on Friday, October 14, 2005.

Docket Numbers: ER05-856-002.

Applicants: Virginia Electric and Power Company.

Description: Virginia Electric and Power Co submits an Agreement for the purchase of electricity for resale with the Town of Windsor, N.C.

Filed Date: 09/30/2005.

Accession Number: 20051004-0058.

Comment Date: 5 p.m. Eastern Time on Friday, October 21, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E5-5572 Filed 10-11-05; 8:45 am]

BILLING CODE 6717-01-P